DEPARTMENT OF THE TREASURY

Financial Crimes Enforcement Network; Proposed Collection; Comment Request

ACTION: Notice and request for comments.

SUMMARY: The Department of the Treasury is engaged in a multi-year education program to disseminate information to the Money Services Business (MSB) industry regarding regulations which requires MSBs to register with the Financial Crimes Enforcement Network (FinCEN) and to file Suspicious Activity Reports (SARs). MSBs include money transmitters; issuers, redeemers, and sellers of money orders and traveler's checks; check cashers; and currency exchangers. Treasury places a high priority on effective and broad-reaching initiatives to facilitate the education of MSBs and their agents. The survey is intended to provide baseline data regarding the makeup of the MSB industry and the extent of knowledge within the industry regarding its obligations under the Bank Secrecy Act and its accompanying regulations.

DATES: Written comments should be received on or before March 27, 2001 to be assured of consideration.

ADDRESSES: Direct all written comments to: Financial Crimes Enforcement Network, Eileen C. Mayer, 2070 Chain Bridge Road, Vienna, VA 22182, (202) 354-6400; E-mail: mayere@fincen.treas.gov

FOR FURTHER INFORMATION CONTACT: Requests for additional information or copies of the survey form and instructions should be directed to: Department of the Treasury, Office of Public Education, Malcolm Carter, 1500 Pennsylvania Avenue, NW, Room 2222, Washington, DC 20220, Phone: (202) 622-0211; E-mail: malcolm.carter@do.treas.gov

SUPPLEMENTARY INFORMATION: Title: Money Services Business Program Response.

OMB Number: New Collection.

Abstract: Telephone Survey to be conducted with business owners and managers in the Money Services Business industry. Survey asks respondents to report methods used to educate employees about regulations and provide general organizational information.

Current Actions: New.

Type of Review: New.

Affected Public: Business.

Estimated Number of Respondents: 600.

Estimated Time Per Respondent: Fifteen Minutes.

Request for Comments: Comments submitted in response to this notice will be summarized and/or included in the request for OMB approval. All comments will become a matter of public record. Comments are invited on—(a) whether the collection of information is necessary for the proper performance of the functions of the agency, including whether the information shall have a practical utility; (b) the accuracy of the agency's estimate of the burden of the collection of information; (c) ways to enhance the quality, utility, and clarity of the information to be collected; (d) ways to minimize the burden of the collection of information of respondents, including through the use of automated collection techniques or other forms of information technology; and (e) estimates of capital or start-up costs and costs of operation, maintenance, and purchase of services to provide information.

Dated: January 22, 2001.
Kevin Hamer,
Chief of Staff, Department of the Treasury, Office of Public Education.

[FR Doc. 01-2387 Filed 1-25-01; 8:45 am]

BILLING CODE 4810-25-M